ENVIRONMENTAL PROTECTION AGENCY

[FRL-7508-5]

Office of Environmental Justice; Environmental Justice Collaborative Problem-Solving Grant Program Request for Applications (May 30, 2003-September 30, 2003)

AGENCY: Environmental Protection Agency.

ACTION: Notice.

SUMMARY: The purpose of this notice is to solicit applications from eligible community-based organizations in order for the U.S. Environmental Protection Agency (EPA) to provide financial assistance to those organizations through the new Environmental Justice Collaborative Problem-Solving Grant Program described in this notice. Community-based organizations who are eligible to receive financial assistance must be non-government, nonprofit organizations currently exempt from taxation under section 501 (c) (3) of the Internal Revenue Code or exempt under applicable state law, and working on or planning to work on projects to address local environmental and/or public health concerns in their communities. All awards will be made in the form of a Federal grant in the amount of $100,000.00 to be used over a three-year period.

This Request for Applications Includes the Following

I. Scope and Purpose of the Request for Applications

II. Commonly Asked Questions About Environmental Justice

III. Description of the Environmental Justice Collaborative Problem-Solving Model

IV. Evaluation Criteria (Performance Measures) for Collaborative Problem-Solving Grant Program

V. Environmental Justice Collaborative Problem-Solving Grant Application Instructions

VI. Selection Process and Program Schedule

VII. Reporting Requirements/Special Conditions

Translations Available

A Spanish translation of this material is available at 1-800-952-6215. It can also be downloaded from: http://www.epa.gov/compliance/recent/ej.html.

I. Scope and Purpose of Request for Applications

The purpose of this notice is to solicit applications from eligible community-based organizations in order for the U.S. Environmental Protection Agency to provide financial assistance to those organizations through the new Environmental Justice Collaborative Problem-Solving Grant Program described in this notice. Community-based organizations who are eligible to receive financial assistance must be non-government, nonprofit organizations currently exempt from taxation under section 501 (c) (3) of the Internal Revenue Code or exempt under applicable state law, and working on or planning to work on projects to address local environmental and/or public health concerns in their communities. All awards will be made in the form of a Federal grant to 15 community-based organizations in the amount of $100,000.00 to be used over a three-year period.

Identification Number: CFDA 66.306.

Date of Notification: May 30, 2003.

Submission Due Date: September 30, 2003.

EPA's Office of Environmental Justice (OEJ), in coordination with the Federal Interagency Working Group on Environmental Justice (IWG), has developed an Environmental Justice Collaborative Problem-Solving Model. (See section III of this RFA for a complete description of this model.) The purpose of the Environmental Justice Collaborative Problem-Solving (CPS) Grant Program is for EPA to provide financial assistance to community-based organizations to utilize this model to address one or more environmental and/or public health issues in their communities. An underlying purpose of the Environmental Justice CPS Grant Program is to replicate lessons learned so that the Environmental Justice Collaborative Problem-Solving Model can be utilized by other, similarly situated communities seeking to address local environmental and/or public health issues.

This Request for Applications (RFA) outlines the purpose, goals, and general procedures and guidelines for applying for the Environmental Justice CPS Grants, for Fiscal Year (FY) 2003. OEJ's Environmental Justice CPS Grants seek to accomplish a strategically defined set of objectives that address one or more local environmental and/or public health issues by focusing on two key areas (e.g., capacity-building of the community residents, and forming collaborative partnerships). Application instructions are provided in section V of this RFA.

Number of Grants Proposed: Fifteen (15) Environmental Justice CPS grants will be awarded for fiscal year (FY) 2003.

Applications must be date stamped by courier service or postmarked by U.S. Postal Service by 12 p.m. Eastern Time, September 30, 2003. Use the appropriate address below, depending on your method of delivery.

VIA U.S. Postal Service

U.S. Environmental Protection Agency, Office of Environmental Justice (MC 2201A), 1200 Pennsylvania Ave., NW., Washington, DC 20460-0001.

Attention: Linda K. Smith, Project Officer, Phone: (202) 564-2602.

VIA Federal Express, Airborne, United Parcel Service, or Other Courier Service

U.S. Environmental Protection Agency, Office of Environmental Justice, Ariel Rios Building South, Room 2232, 1200 Pennsylvania Ave., NW., Washington, DC 20004.

Attention: Linda K. Smith, Project Officer, Phone: (202) 564-2602.

Applications Sent by Fax or E-mail Will Not Be Accepted

II. Commonly Asked Questions About Environmental Justice

How Does EPA Define Environmental Justice?

EPA defines “environmental justice” as the fair treatment and meaningful involvement of all people regardless of race, color, national origin or income with respect to the development, implementation, and enforcement of environmental laws, regulations, and policies. Fair treatment means that no one group of people, including racial, ethnic, or socioeconomic groups, should bear a disproportionate share of the negative environmental consequences resulting from industrial, municipal, and commercial operations or the execution of federal, state, local, and tribal environmental programs and policies. Meaningful involvement means that: (1) Potentially affected community residents have an appropriate opportunity to participate in decisions about a proposed activity that will affect their environment and/or health; (2) the public's contribution can influence the regulatory agency's decision; (3) the concerns of all participants involved will be considered in the decision-making process; and (4) the decision-makers seek out and facilitate the involvement of those potentially affected.

What Is the EPA's Commitment to Environmental Justice?

EPA Administrator Christine Todd Whitman reaffirmed the Agency's commitment to environmental justice as the “goal to be achieved for all communities and persons across this Nation * * * when everyone, regardless of race, culture, or income, enjoys the same degree of protection from environmental and health hazards and equal access to the decision-making process to have a healthy environment in which to live, learn and work.” In her August 9, 2001, memorandum, the Administrator directed EPA's senior managers and staff to integrate environmental justice into all EPA policies, programs, and activities. Consequently, in FY 2003, each Regional and Headquarters Office developed Environmental Justice Action Plans to transform the Administrator's words into action, with strategic goals and measurable results. Each Regional and Headquarters Office began implementing these action plans which are available at: http://epa.gov/compliance/environmentaljustice. Inherently strategic in nature and deemed as “works in progress,” these action plans represent the commitments of each office over the next 1-5 years.

Consistent with this commitment, EPA, through OEJ, will provide financial assistance to those community-based organizations who wish to engage in capacity-building initiatives, and also utilize constructive engagement and collaborative problem-solving to seek viable solutions for their community's environmental and/or public health issues. Moreover, OEJ staff members will provide hands-on technical assistance to those grantee community-based organizations throughout the duration of the grant.

What Does the OEJ Mean by Capacity-Building?

Capacity-building refers to the mechanisms a community uses which provide the residents with the information, skills, and tools to more effectively achieve their goals. These mechanisms may lead to better documentation and assessment of an environmental and/or public health problem. Documentation and assessment mechanisms range from neighborhood surveys to the use of mapping tools through the EPA's geographic information systems. A particularly helpful tool in this regard would be the Environmental Justice Mapper which is available at: http://www.epa.gov/compliance/whereyoulive.html. Other capacity-building mechanisms may involve increasing the community's ability to understand the permitting process and to use legal tools to participate in the environmental decisionmaking process, such as those described in the Environmental Law Institute's “A Citizen's Guide to Using Environmental Laws to Secure Environmental Justice.” This publication is available at: http://www.epa.gov/compliance/resources/publications/ej/citizen_guide_ej.pdf.

A third type of capacity-building mechanism may involve enhancing the community's understanding and appreciation of the partnership development process, consensus building, and the use of alternative dispute resolution to address local environmental and/or public health concerns.

What Does the OEJ Mean by Constructive Engagement and Collaborative Problem-Solving?

Constructive engagement and collaborative problem-solving are essential approaches to address local environmental and/or public health concerns. A key starting point is the community's involvement in clearly formulating and articulating a goal to be accomplished (e.g., establishment of a health clinic or medical screening program; or replacement of diesel buses with clean fuel buses). Constructive engagement means outreach and education to affected community residents and other stakeholders. Collaborative problem-solving requires an understanding of the need to seek other partners such as industry; federal, state and local governments; academia; and environmental organizations to address the community's environmental and/or public health concerns. It involves developing strategic partnerships, by including all organizations which can play a role in addressing the problems. Collaborative problem-solving involves a well-designed and strategic plan to sustain the partnership and to work towards addressing the local environmental and/or public health issues.

III. Description of the Environmental Justice Collaborative Problem-Solving Model

The elements of the Environmental Justice Collaborative Problem-Solving Model are discussed in detail in below. A sample of a project where the elements of the Model have been used is also provided below. The elements of the Environmental Justice Collaborative Problem-Solving Model are discussed in detail below. A sample of a project where the elements of the Model have been used is also included below. More examples of how the Model has been applied can be found on the Internet, the “Federal Interagency Working Group on Environmental Justice Status Report, (February 2002). (http://epa.gov/compliance/resources/publications/ej/iwg-status-02042002.pdf), an evaluation report for six of the 2002 demonstration projects http://www.epa.gov/evaluate/ej.htm and, the recent 2003 List of Revitalization Projects http://epa.gov/compliance/resources/publications/ej/iwg-2003.pdf.

1. Issue Identification, Community Vision, and Strategic Goal Setting

Long-standing concerns in the affected community tend to surface from the efforts of one individual or a small group of individuals who are particularly active in the community. These concerns can include “substantive issues” such as high asthma rates, children suffering from high levels of lead poisoning, undesirable land uses, the close proximity of residences to pollution-generating facilities, the lack of parks and recreational areas, or the lack of access to health care or medical monitoring. These concerns also can include “process issues” such as the need to strengthen public participation, identifying leaders or leadership development, improved education of stakeholders, and trust among stakeholder groups to work together. Collaborative problem-solving stresses moving beyond merely identifying the issues to formulating viable strategies to address and resolve them. Involving the broader community in a planning process usually leads to greater clarity in the goals set, common understanding and trust, and the ability to act collectively. Strategic goals should not only address the problem but also lead to greater community capacity, viable partnerships, and leveraging of resources-institutional, technical, and financial. A key step in the goal-setting process is determining whether or not the conditions are ripe for a collaborative problem-solving process. The following list provides several important steps a community-based organization can take to identify an issue, articulate a community vision, and set strategic goals:

• Building upon existing leadership and expertise in the affected community;

• Conducting local education and outreach efforts, fact-finding and assessments;

• Involving affected community residents early in identifying concerns and crystallizing issues;

• Identifying early on potential partners from all stakeholder groups;

• Building upon a strong understanding of community history and practices;

• Building upon a clearly articulated community vision of its goals; and,

• Employing tools for involving the affected community residents in planning project activities.

2. Community Capacity Building

Capacity building refers to mechanisms which provide the community-based organizations with information, skills, and tools to more effectively achieve the community's goals. These mechanisms may involve better documentation and assessment of a problem, use of consensus building, and alternative dispute resolution. Capacity building efforts should focus on residents of the affected community as well as other stakeholders. Leadership skills in areas such as strategic thinking, management processes, and effective communications are very critical. The ability to build trust and build partnerships across stakeholder groups is one such leadership skill. Therefore, particular attention should be paid to nurturing the leadership skills of key individuals in a project. Capacity building and leadership development can be accomplished through a range of activities, from attendance at meetings, workshops, and training sessions to participation in mentoring opportunities. Several key steps toward community capacity building and to acquiring successful leadership skills could include:

• Building upon existing organizational capacity in the affected community;

• Identifying specific capacity building mechanisms which are tailored to community needs and project goals;

• Fostering capacity through training, mentoring, technical assistance, or resource support;

• Ensuring capacity building for those community representatives directly involved in the collaborative problem-solving processes; and

• Developing processes that help ensure capacity building and leadership development of community residents in the future.

3. Consensus Building and Dispute Resolution

Collaborative problem-solving encourages all parties to seek to find common ground and derive “mutual gains” from participating in a consensus building process. More often than not, this will lead to greater capacity to address the community's concerns and the eventual resolution of issues. Moreover, consensus building efforts often result in greater understanding and trust among different stakeholders that will lead to a greater capacity to address other issues. There also will be cases in which crystallized disputes require the use of a facilitator or mediator to help resolve such disputes. There exists a wide array of approaches within the area of dispute resolution—ranging from unassisted negotiation to arbitration—that communities can employ to best suit their needs. Several key steps a community can employ to achieve consensus building and successful dispute resolution are:

• Designing processes, both formal and informal, to help ensure fair treatment and meaningful participation of all collaborative problem-solving stakeholders;

• Instituting processes which promote the development of a common vision, and goals among all partners;

• Identifying, nurturing and promoting collaborations with win/win scenarios and the “mutual gains” approach;

• Promoting the use of facilitation or mediation to ensure understanding of the consensus building process; and

• Ensuring that existing or potential conflicts are resolved, where necessary, through the use of alternative dispute resolution techniques.

4. Multi-Stakeholder Partnerships, and Resource Mobilization

Building a successful partnership requires vision, clear problem identification, organizational capacity and commitment, individual leadership, use of technical resources, and, in some cases, use of a facilitator. This is an evolving process that grows with existing capacity on the part of the affected community as well as other stakeholder groups. Different stakeholder groups will require different assistance to ensure their effective participation. For example, community groups may need support in accessing government resources while industry may need education on how to work effectively and proactively with communities. Well-structured partnerships assemble the needed capacity to resolve issues. They are important vehicles for creating a broad-based framework that mobilizes the resources necessary—human, institutional, technical, legal, and financial—to address a problem. In this way, they are a critical part of a capacity building strategy. Several ways to achieve well structured multi-stakeholder collaborative partnerships include:

• Establishing dialogues which lead to possible partnerships with all relevant stakeholders/parties, which invariably include the community, business, and government;

• Ensuring clarity of goals, objectives, and common vision among all members of the partnership;

• Developing a clear, workable organizational structure and workplan to address communications and coordination needs of the collaborative partnership;

• Identifying and recruiting partners to address the resource needs of a project (e.g., human, institutional, technical, legal, and financial);

• Strengthening partnerships as new issues and relationships are understood; and

• Establishing processes that allow for the inclusion of new partners as they emerge.

5. Supportive and Facilitative Role of Government

Environmental and public health government agencies can play an important role in addressing a community's concerns because the agencies are invested with the statutory authority to address those issues. They make decisions of a regulatory nature, provide technical assistance and resources, and can help ensure that all relevant stakeholders come to the table. It is important that community organizations seeking to resolve a problem formulate a clear strategy to engage government agencies at the local, state, tribal, and/or Federal levels. Securing support from environmental and public health government regulatory agencies can be accomplished by:

• Securing commitments from multiple agencies, whether Federal, state, local, or tribal government agencies, as appropriate;

• Seeking to ensure interagency and intergovernmental cooperation and coordination to address complex environmental and/or public health, housing, transportation, economic development, community revitalization, etc.; and

• Accessing and securing support for a specific community need that coincides with a current activity being conducted by an environmental and/or public health government agency.

6. Management and Implementation

Realizing a vision to address identified issues requires attention to three major areas: (1) Action plans; (2) management; and (3) partnership design. Plans to address these areas should be formulated and executed in ways that build upon the unique assets and challenges of specific communities and stakeholder partners. Action plans should include clear objectives, timelines, and delegation of responsibilities. Management plans should ensure proper communications, coordination, and utilization of resources. Well-formulated partnership designs should address the convening processes, the role of lead organizations, planning for regular meetings, and understanding ways to increase the capacity of partner organizations. As a result, all partners must articulate and follow through on commitments for the project to: (1) Address the identified issues thoroughly; (2) strengthen and maintain partnerships; and (3) realize the shared goals. Several ways that could accomplish a successful management plan include:

• Ensuring tangible outcomes and improvements in community conditions;

• Developing strategies tailored to the community's assets and deficits;

• Designing projects to meet the strength of partnerships, resources and the capacity of the partners;

• Producing clearly defined, well-formulated action plans;

• Identifying and building upon small successes achieved along the way;

• Ensuring clear commitments on the part of all partners; and

• Clustering and ordering tasks to promote the efficient use of time and resources.

7. Framework, Lessons Learned, and Replication of Best Practices

Key to deepening and sustaining the work is the ability to sum up progress in quantitative, qualitative, institutional, and social terms, and to incorporate lessons learned into a continuous process. Formulating a plan for evaluating one's work is an important element of success. Not only will it help the project implementation plan stay on course, but such a plan will also allow for greater clarity of lessons learned. Lessons learned need to be shared not only with the affected community residents, but also with other communities and stakeholders so that best practices can be replicated broadly. Several key steps that should be included in developing an evaluation framework for lessons learned can consist of:

• Clearly defining measures of success of project objectives, process, outputs, institutional effects, and quality-of-life results;

• Understanding and evaluating, from different stakeholder perspectives, indicators used to measure success;

• Developing a “template” for successful collaborative models, based on experience in a specific community;

• Developing mechanisms to integrate the lessons into future efforts as new issues and challenges are identified; and

• Sharing, publishing, and disseminating experiences and lessons learned.

Example of a Project Where the Environmental Justice Collaborative Problem-Solving Model Is Used

An example of a community-based organization that has successfully utilized elements of the Environmental Justice Collaborative Problem-Solving Model is outlined below. CPS Project X, located in Any Town, USA, is a proactive community-based organization of 1,400 members who have taken the lead in establishing collaborative partnerships to address local environmental and/or public health issues through environmental cleanup and community revitalization initiatives. A synopsis of the CPS Project X Partnership as it relates to the Environmental Justice Collaborative Problem-Solving Model follows:

1. Issue Identification/Vision: A community survey confirmed concerns about public health problems associated with two abandoned toxic waste sites. The community developed a vision of environmental cleanup and community revitalization. Their goals included cleanup and redevelopment plans involving improved housing, and the need for a technology and job-training center, greenway development, and a health clinic.

2. Community Capacity Building: Proactive, committed, and strategic leadership provided by a champion resulted in the formation of CPS Project X, a community-based organization, and the development of the broad-based CPS Project X Partnership. Among other things, the CPS Project X Partnership educated the community on the fundamentals of brownfields redevelopment and sustainable development.

3. Consensus Building and Dispute Resolution: Partners have been and continue to be committed to a consensus building process that rests upon a common vision among its partners. All major stakeholders have participated in the development of a common vision for the project.

4. Multi-Stakeholder Collaborative Partnerships: The CPS Project X Partnership established a steering committee co-chaired by CPS Project X, the City of Any Town, and the County of All Towns, and EPA. Other partners included: local banks; State Department of Health and Environmental Control; State Economic Development Administration; the University of State; and several elected officials. These partners have brought significant resources—human, technical, and institutional—to help realize the community's goals.

5. Supportive and Facilitative Role of Government: Several Federal agencies have provided resources and technical assistance, including EPA; the Departments of Transportation, Housing and Urban Development, and Energy; the National Institute for Environmental Health Sciences, and the Agency for Toxic Substances and Disease Registry. Federal funding for this effort has exceeded $1.5 million.

6. Management and Implementation: A well-formulated partnership design, which included specific subcommittees geared to address the project goals, and a set of clear objectives have resulted in a viable workplan. Assistance in organizational management issues is being provided by an expert in nonprofit organizations. Ongoing coordination is being provided by a partnership consisting primarily of the steering committee co-chairs.

7. Evaluation Framework/Lessons Learned: While the CPS Project X Partnership has not developed an overall evaluation framework, some measures of success are built into discreet project components such as the Health Care Clinic Workplan, Brownfields Assessment Workplan, and the Dump Superfund Initiative Workplan. A case study of this project has been completed by EPA: another is being planned by a non-government organization.

More examples of how the Model has been applied can be found in two EPA documents, the “Federal Interagency Working Group on Environmental Justice Status Report, (February 2002). (http://epa.gov/compliance/resources/publications/ej/iwg-status-02042002.pdf) and the recent 2003 List of Revitalization Projects http://epa.gov/compliance/resources/publications/ej/iwg-2003.pdf.

IV. Evaluation Criteria (Performance Measures) for the Collaborative Problem-Solving Grant Program

As required by 40 CFR 30.63, anticipated accomplishments must be stated. The following criteria will be used to determine the effectiveness of the Environmental Justice CPS Grant Program in meeting its anticipated objective. The overarching goal of the Environmental Justice CPS Grant Program is to build the capacity of the communities to address strategically defined local environmental and/or public health issues in a collaborative problem-solving partnership, and to create positive public health and/or environmental improvements in each of the affected communities selected for this program.

The Environmental Justice CPS Grant Program is intended to seek:

1. Improvements in the capacity of affected communities to think strategically and to work with other stakeholders; and

2. Improvements in the environmental conditions in the communities that are perceived to have an impact on the health of the residents of these affected communities.

The following criteria will be used by EPA to measure the success of the overall Environmental Justice CPS Grant Program. These criteria are for the evaluation of the grant program as a whole. However, each grantee must include evaluation criteria for its project at the time the application is submitted. All grant applications must reflect the following four key elements:

1. Proper documentation and assessment of the local environmental and/or public health problem.

2. Development of the appropriate partnerships, including all organizations which can play a role in addressing the problem(s).

3. Formulation of a well-designed strategic plan to sustain the partnerships and to ensure resolution of the issue(s).

4. Development of mechanisms to share lessons learned from the process.

EPA will use several measures to evaluate the success of the Environmental Justice CPS Grant Program, including, but not limited to:

• Operation and maintenance of effective collaborative partnerships are sustained throughout the period of the grant and afterwards.

• More effective oversight of the grant program by EPA is achieved with OEJ staff members and regional staff more involved in the grants.

• Significant reduction in public health and environmental risks in affected communities is achieved.

• Significant improvement in the quality of life issues for the affected communities is achieved.

• Facilitation and/or mediation services are effectively utilized to help resolve local environmental and/or public health issues in affected communities.

• Community capacity is significantly improved for program participants.

• Outcomes or lessons learned in affected communities are transferred to other similarly situated communities.

V. Environmental Justice Collaborative Problem-Solving Grant Application Instructions

A. Who May Submit Applications and May Applicants Submit More Than One?

Any affected community-based organization with nonprofit status either demonstrated through designation by the Internal Revenue Service as a section 501(c)(3) organization or incorporated as a nonprofit under applicable state law may submit an application during the period of this solicitation. Applicants must be nonprofit, non-governmental organizations to receive these Federal funds. Universities are not eligible to apply for this grant program. Please also refer to Appendix E for Guidance on Lobbying Restrictions.

The Environmental Justice CPS Grant Program is a competitive process. EPA will consider only one application per community-based organization for any given project.

The community-based organization who applies for an Environmental Justice CPS Grant must submit one original, signed by a person authorized to receive funds for the organization, and two copies of the application (double-sided copies encouraged). Applications must be reproducible (for example, stapled once in the upper left hand corner, on white paper, and with page numbers).

B. What Activities Under the Environmental Justice CPS Grants Are Eligible for Funding?

The Environmental Justice CPS Grant Program is designed for multi-media environmental issues and/or public health concerns. For this reason, each project must include activities which are authorized by two or more of the following federal environmental statutes.

(1) Clean Water Act, section 104(b)(3): Conduct and promote the coordination of research, investigations, experiments, training, demonstration projects, surveys, and studies relating to the causes, extent, prevention, reduction, and elimination of water pollution.

(2) Safe Drinking Water Act, section 1442(c)(3)(A): Develop, expand, or carry out a program (that may combine training, education, and employment) for occupations relating to the public health aspects of providing safe drinking water.

(3) Solid Waste Disposal Act, section 8001(a): Conduct and promote the coordination of research, investigations, experiments, training, demonstration projects, surveys, public education programs, and studies relating to solid waste (e.g., health and welfare effects of exposure to materials present in solid waste and methods to eliminate such effects).

(4) Clean Air Act, section 103(b)(3): Conduct research, investigations, experiments, demonstration projects, surveys, and studies related to the causes, effects (including health and welfare effects), extent, prevention, and control of air pollution.

(5) Toxic Substances Control Act, section 10(a): Conduct research, development, monitoring, public education, training, demonstration projects, and studies on toxic substances.

(6) Federal Insecticide, Fungicide, and Rodenticide Act, section 20(a): Conduct research, development, monitoring, public education, training, demonstration projects, and studies on pesticides.

(7) Marine Protection, Research, and Sanctuaries Act, section 203: Conduct research, investigations, experiments, training, demonstration projects, surveys, and studies relating to the minimizing or ending of ocean dumping of hazardous materials and the development of alternatives to ocean dumping.

Please Note: Applications for proposed projects that are inconsistent with the above stated EPA statutory authorities or goals of the program are ineligible for funding and will not be evaluated and ranked.

C. Have You Received Any Other Grants or Cooperative Agreements From EPA in the Last 3 Years?

Please list the grant or cooperative agreement number, title of the project, and amount of funding provided by EPA.

Please Note: Do not use the same project description for this application that was used for any prior award. To do so will disqualify your application.

D. How Much Money May Be Requested, and Are Matching Funds Required?

Costs will be determined in accordance with OMB Circular No. A-122 for nonprofit organizations. The ceiling in federal funds for individual grants is $100,000. Funds can be dispersed as needed or up to 80% of the grant award can be obtained. The remaining 20% of the grant award will be available upon the successful completion of the grant and the acceptance by EPA of the final report as detailed in the grant. Applicants are not required to provide matching funds.

E. Are There Any Restrictions on the Use of the Federal Funds?

Yes. EPA grant funds can only be used for the purposes set forth in the grant agreement, and must be consistent with the statutory authority for the award. Grant funds from this program cannot be used for matching funds for other federal grants, lobbying, or intervention in federal regulatory or adjudicatory proceedings. In addition, the grantee may not use these federal assistance funds to sue the federal government or any other government entity. Refer to 40 CFR 30.27, entitled “Allowable Cost.” The scope of Environmental Justice CPS grants may not include construction, promotional items (e.g., T-shirts, buttons, hats, and furniture purchases).

F. Who Should You Call if You Have Questions About the Environmental Justice CPS Grants?

For questions concerning CPS grants, you may contact the Environmental Justice Coordinator in your region. Because this is a competitive grant program, any questions concerning the application and review process must be submitted via e-mail or fax in order to ensure fairness to all possible applicants. You can contact the Project Officer by calling direct to (202) 564-2602 or to the Toll-free number 1-800-962-6215. All questions must be sent via e-mail to smith.linda@epa.gov or by fax to (202) 501-1162. They will be posted on the Web site and sent via the EJ-EPA list serv.

G. What Must the Environmental Justice CPS Grant Contain?

Proposals from community-based organizations must have the following (Forms Can be Downloaded from http://www.epa.gov/ogd/AppKit/application.htm):

1. Form SF 424—Application for Federal Assistance. The official form is required for all federal grants. It requests basic information about the grantee and the proposed project.

2. Other Forms Required.

Budget Form SF 424A. Provides information on your budget. Budget figures/projections should support your workplan narrative.

Separate Detailed Budget. The detailed budget should include the specific components of the general categories you listed on the SF 424A (e.g., personnel costs, fringe benefits, specific travel, equipment, supplies, and contractor costs, broken down by project phases).

SF 424B. Assurances—Non-Construction Programs.

Preaward Compliance Review Report.

Certification Regarding Lobbying.

Quality Assurance Statement (if a research project).

3. A Project Workplan Narrative of the Proposal not to exceed 15 Typewritten Pages. A workplan narrative describes the applicant's proposed project. The typed pages of the workplan must be in 12 point font, on letter-size paper (8½ x 11 inches), single-spaced, single-sided, and have 1″ margins. The project workplan narrative is one of the most important components of your application and (assuming that all other required materials are submitted) will be used as the primary basis for selection. The workplan narrative must include all of the information described in Item G below.

4. Letter(s) of Commitment. Your application must include letters of commitment from the other stakeholder partners/organizations identified in your application.

5. Documentation of Nonprofit Status. Any affected community-based organization with nonprofit status either demonstrated through designation by the Internal Revenue Service as a section 501(c)(3) organization or incorporated as a nonprofit under applicable state law may submit an application during the period of this solicitation. Applicants must be nonprofit, non-governmental organizations to receive these Federal funds. Universities are not eligible to apply for this grant program. The application must include documentation as evidence of the organization's current nonprofit status.

6. Resumes of the Key Personnel. The application must include resumes of the Principal Investigator or Project Manager, and two other key personnel who will be significantly involved in the project.

7. Evaluation Criteria for How To Determine the Success of The Project (Performance Measures).

8. The answer to the question concerning past awards in Section V-C.

Note: Applications that do not include ALL the information listed above will not be considered.

Please mark any information in the proposal that you consider confidential. EPA will follow the procedures at 40 CFR part 2 if information marked confidential is requested from the Agency under the Freedom of Information Act.

H. How Will the Applications Be Evaluated?

The applications will be evaluated by an EPA Review Panel and selected according to the following criteria. The corresponding points next to each criterion are the weights EPA will use to evaluate the applications. Please note that certain sections are given greater weight than others. Your application will be ranked based on the following evaluation criteria:

1. Clear and Concise Description of the Project (35 points)

The project workplan narrative is one of the most important components of your application and (assuming that all other required materials are submitted) will be used as the primary basis for selection. The workplan narrative must provide the following information:

a. Describe your community-based organization and its qualifications to undertake this collaborative problem-solving project. In addition, describe your qualifications as the Principal Investigator/Project Manager to undertake this project. Include whether or not your organization has received any grant/cooperative agreement from EPA in the last 3 years as described in Item V-C. above. (5)

b. Describe the community being served (e.g., demographics, geographic location, community history and assets, issues of concern). Provide a discussion of the environmental and/or public health issues your project seeks to address. (5)

c. Describe the strategic goals your project seeks to accomplish. (5)

1. Describe the process your organization and your collaborating partners used to formulate these goals (e.g., needs assessment, planning charettes).

2. Describe how you intend to build consensus among your partners around these goals.

3. Describe how achievement of those goals will address the issues of concern and improve the environment and/or public health of your community.

d. Describe the specific steps you have and/or will undertake to engage in constructive engagement among collaborative partners, and to establish and manage a formal collaborative problem-solving partnership, including but not limited to the following: (5)

1. Strategies used;

2. Partnership structure (e.g., committee, work group, etc.);

3. Key obstacles to overcome;

4. Communications and coordination mechanisms and procedures;

5. Use of consensus building and dispute resolution techniques;

6. Decision-making process; and

7. Use of formal agreements.

e. Describe the organizations which are members of the formal collaboration, including qualifications of each organization other than the applicant; the roles of each organization; the commitments made by each organization; and the ways by which each organization will implement their commitments. (5)

f. Provide an implementation plan. Describe in chronological order the activities you and your partners will undertake to carry this project. Use of a timeline is encouraged. (5)

1. Describe your intended activities to build the capacity of your community-based organization, the impacted community, and other stakeholder partners to achieve the goals of your project. Describe how such capacity building activities will enhance the ability of partners to:

• address the strategically-defined issues; and

• undertake the collaborative problem-solving partnership.

I.

2. Provide the steps you intend to take to achieve the project's objectives and desired results. Include an analysis of the obstacles, gaps, and/or conflicts that your project will face, and discuss how your implementation strategies are designed to overcome them.

g. Describe how the project will develop and incorporate an evaluation strategy, establish and track milestones and performance measures (activities, outputs, and outcomes), and share lessons learned. Areas for evaluation may include, but are not limited to, the following: (5)

1. Improvements in the capacity of the community-based organization to form partnerships;

2. Improvements in the ability of the community-based organization to build and sustain a strong working relationship with the partners in order to resolve problems in a collaborative manner; and

3. Improvements in the environmental and/or public health conditions in the community.

2. Adherence to the Environmental Justice Collaborative Problem-Solving Model Described in Appendix D (25 points)

The following seven elements have been identified as key factors to the success of an Environmental Justice Collaborative Problem-Solving Model:

1. Issue Identification, Community Vision, and Strategic Goal Setting;

2. Community Capacity Building;

3. Consensus Building and Dispute Resolution;

4. Multi-Stakeholder Partnerships and Resource Mobilization;

5. Supportive and Facilitative Role of Government;

6. Management and Implementation; and

7. Evaluation, Lessons Learned, and Replication of Best Practices.

a. Please describe how your project utilizes the elements of a collaborative problem solving model, and how each contribute to the overall success of the project.

b. Describe how the project, either through its implementation or results, will contribute to further development of the Environmental Justice Problem-Solving Model.

3. A detailed budget which shows how the funds will be specifically used in terms of personnel, fringe benefits, travel, equipment, supplies, contractor costs, and other costs. Funds cannot be used for construction, lobbying, or litigation against the government. The budget must list proposed milestones with deadlines, and estimated costs and completion dates. (10 points)

4. An appendix which describes the qualifications of the Principal Investigator or Project Manager and explains why he/she is qualified to undertake this project. (10 points)

5. A Memorandum of Agreement signed by each representative of the collaborative partnership which identifies the roles and responsibilities of each partner. Each partner is valued at 2 points with a maximum possible total of 10. (10 points)

Please Note: A letter of support from an individual or entity does not qualify as a reflection of an agreement to participate in a collaborative partnership.

6. A set of evaluation criteria which reflect how the success of the project will be measured. These should include qualitative and quantitative measures. (10)

I. When and Where Must Applications Be Submitted?

The applicant must submit one signed original application with required attachments and two copies. Applications must be postmarked by U.S. Postal Service or date stamped by courier service by 12 p.m. Eastern Time, September 30, 2003. Use the appropriate address below, depending on your method of delivery.

Applications Sent by FAX or E-Mail Will Not Be Accepted

VIA U.S. Postal Service

U.S. Environmental Protection Agency, Office of Environmental Justice (MC 2201A), 1200 Pennsylvania Ave., NW., Washington, DC 20460-0001,

Attention: Linda K. Smith, Project Officer, Phone: (202) 564-2602.

VIA Federal Express, Airborne, United Parcel Service, or Other Courier Service

U.S. Environmental Protection Agency, Office of Environmental Justice, Ariel Rios Building South, Room 2232, 1200 Pennsylvania Ave., NW., Washington, DC 20004.

Attention: Linda K. Smith, Project Officer, Phone: (202) 564-2602.

Applications Sent by Fax or E-Mail Will Not Be Accepted

VI. Selection Process and Program Schedule

A. How Will Applications Be Reviewed?

A panel of EPA employees will review, evaluate, and rank the applications of potential grant recipients. Applications will be screened to ensure that they meet all eligible activities and requirements described in sections IV and V above.

B. How Will the Final Selections Be Made?

After the individual projects are reviewed and ranked, OEJ will compare the best applications and make final selections. Additional factors that OEJ will take into account include geographic and socioeconomic balance, the diverse nature of the projects, the projected use of the funds, and projects whose environment and/or public health benefits can be sustained after the grant is completed. The OEJ Director will make the final grant selections.

Please note that this is a very competitive grants program. Limited funding is available and many grant applications are expected to be received. Therefore, the Agency cannot fund all applications. If your project is not funded, a listing of other EPA grant programs may be found in the Catalog of Federal Domestic Assistance. This publication is available on the Internet at http://www.epa.gov/compliance/recent/ej.html.

C. How Will Applicants Be Notified?

After all applications are received, OEJ will mail acknowledgments to the applicants. Once applications have been recommended for funding, OEJ will notify the finalists. OEJ will notify those applicants in writing whose projects are not selected for funding.

D. What Is the Expected Timeframe for Reviewing and Awarding the Environmental Justice CPS Grants?

May 30, 2003—FY 2003 OEJ Collaborative Problem-Solving Grant Program Application Guidance is available and published in the Federal Register and on the Internet.

June 1, 2003 to September 30, 2003—Eligible grant recipients develop, complete and submit their applications.

September 30, 2003—Applications must be date stamped by courier service or postmarked by U.S. Postal Service by 12 p.m. Eastern Time, September 30, 2003.

October 1, 2003-November 3, 2003—EPA reviews and evaluates applications.

November 22, 2003-December 22, 2003—Applicants will be contacted if their application is being considered for funding.

January 1, 2004—The OEJ Director will make final recommendations for award.

January 31, 2004—OEJ will release the national announcement of the 2003 recipients.

VII. Reporting Requirements/Special Conditions

Activities must be complete and funds spent within the timeframe specified in the three-year grant award. Project start dates will depend on the grant award date. OEJ anticipates grant awards by January 1, 2004. Substantial communication between EPA and the grantee will include:

A. Quarterly Reports—The grant recipient's Project Manager will be required to submit quarterly reports to update OEJ on the project's progress. The reports should include, but not be limited to, information identified under the elements of the Environmental Justice Collaborative Problem-Solving Model that pertain to:

1. Specific grant activities accomplished, such as establishing an effective, collaborative partnership between the grant recipient and other stakeholders;

2. Operating and maintaining an effective collaborative partnership and problem-solving mechanism;

3. Noteworthy community capacity-building activities that took place;

4. Identifying activities that resulted in the improvement of the community's environmental and/or public health concerns;.

5. Stating how funding resources were committed; and,

6. Identifying any issues/problems encountered and the methods for resolution.

B. Monthly Conference Calls—Moreover, the grantee will confer on a monthly basis with the OEJ staff person identified as the technical contact. A template will be furnished on those items to be discussed. In general, every call and report will follow the evaluation criteria described in section IV.

C. Development of Performance Measures for Grant—As a condition to receiving Environmental Justice CPS grants, grantees are required to develop measurable outcomes to be achieved through the activities for which these grant funds were awarded. The performance measures (evaluation criteria) should focus on solid, qualitative activities related to the grantee's activities, outputs, and outcomes. These performance measures will help gather insights concerning successful implementation strategies and generate lessons learned that may be applicable to future projects under this grant program.

The success of this grant program will be entirely dependent on the work of the grantees. Therefore, EPA and the grantee will examine whether, as a result of the grantee's activities and outputs, there has been:

• Better overall environmental and/or public health protection for community residents;

• Significant improvement in the quality-of-life of community residents;

• Significant increase in the community's capacity as it relates to understanding the environmental and/or public health issues affecting the community; a better understanding of the permitting processes; a better understanding of the use of environmental laws and their implementing regulations to address environmental justice concerns; and a better understanding of alternative dispute resolution and negotiation techniques;

• Effective use of the collaborative problem-solving processes;

• Transferability of the lessons learned to other communities similarly situated; and,

• Effective community revitalization.

D. Final Report Requirement—All grant recipients must submit a Final Technical Report for EPA approval within ninety (90) days of the end of the project period. A draft of this report should be submitted within 60 days of the end of the project period. A Financial Status Report is also required and is described in the award agreement document. The EPA will collect, review, and disseminate those final reports which can serve as models for future projects.

E. Change in Project Requiring Project Officer Approval—The grant recipient is responsible for the successful completion of the project. However, any change in the Project Manager or Principal Investigator is subject to approval by the EPA Project Officer. You must immediately submit the reason for the change and the qualifications of the new Project Manager or Principal Investigator to the Project Officer in writing. This can be sent by e-mail to smith.linda@epa.gov or by fax to (202) 501-1162.

For further information about this Environmental Justice CPS grant program, please visit the EPA's Web site at: http://www.epa.gov/compliance/environmentaljustice/grants/index.html or call our hotline at 1-800-962-6215 (available in Spanish).

Dated: May 30, 2003.
Barry E. Hill,
Director, Office of Environmental Justice.

[FR Doc. 03-14324 Filed 6-5-03; 8:45 am]

BILLING CODE 6560-50-P